FEDERAL COMMUNICATIONS COMMISSION

47 CFR Part 73

[DA 01-1544; MM Docket No. 01-143, RM-10153]

Radio Broadcasting Services; Noblesville, Indianapolis, and Fishers, Indiana

AGENCY: Federal Communications Commission.

ACTION: Proposed rule.

SUMMARY: The Commission requests comments on a petition for rule making filed by INDY LICO, licensee of Stations WGRL(FM), Noblesville, Indiana, and WGLD(FM), Indianapolis, Indiana proposing the reallotment of Channel 230A from Noblesville, Indiana, to Fishers, Indiana, and the modification of Station WGRL(FM)'s license to reflect the change of community, and the reallotment of Channel 283B from Indianapolis to Noblesville, Indiana, and the modification of Station WGLD(FM)'s license to reflect the change of community. Channel 230A can be reallotted from Noblesville to Fishers at petitioner's licensed site 7.1 kilometers (4.4 miles) north of the community at coordinates 40-00-55 NL, and 85-58-58 WL. Channel 283B can be reallotted from Indianapolis to Noblesville at petitioner's licensed site 26.9 kilometers (16.7 miles) southwest of the community at coordinates 39-50-25 NL and 86-10-34 WL.

DATES: Comments must be filed on or before August 20, 2001, and reply comments on or before September 4, 2001.

ADDRESSES: Secretary, Federal Communications Commission, Washington, DC 20554. In addition to filing comments with the FCC, interested parties should serve the petitioner, as follows: Mark N. Lipp, Shook, Hardy & Bacon, LLP, 600 14th Street, NW., Suite 800, Washington, DC 20005 (Counsel to Petitioner).

FOR FURTHER INFORMATION CONTACT: Victoria M. McCauley, Mass Media Bureau, and (202) 418-2180.

SUPPLEMENTARY INFORMATION: This is a synopsis of the Commission's Notice of Proposed Rule Making, MM Docket No. 01-143 adopted June 20, 2001 and released June 29, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Indiana, is amended by removing Channel 230A at Noblesville and adding Fishers, Channel 230A, by removing Channel 283B at Indianapolis and adding Channel 283B at Noblesville.

Federal Communications Commission.
John A. Karousos,
Chief, Allocations Branch, Policy and Rules Division, Mass Media Bureau.

[FR Doc. 01-17926 Filed 7-17-01; 8:45 am]

BILLING CODE 6712-01-P